NATIONAL SCIENCE FOUNDATION

Special Emphasis Panel in Electrical and Communications Systems; Notice of Meeting

In accordance with the Federal Advisory Committee Act (Pub. L. 92-463, as amended), the National Science Foundation announces the following meeting:

Name: Special Emphasis Panel in Electrical and Communications Systems (1196).

Dates: April 21, 2000; 8:30 a.m.-5 p.m.

Place: Room 390, National Science Foundation, 4201 Wilson Boulevard, Arlington, VA.

Type of Meeting: Open.

Contact Person: Dr. Marija Ilic, Program Director, Control, Networks, and Computational Intelligence (CNCI), 4201 Wilson Boulevard, Room 675, Arlington, Virginia 22230, Phone 703-306-1339.

Minutes: May be obtained from the contact person listed above.

Purpose of Meeting: To provide advice and recommendations concerning research and education agenda for Electric Power Systems.

Agenda: Identify key research and education areas of critical relevance for electric power industry.

Dated: April 6, 2000.
Karen J. York,
Committee Management Officer.

[FR Doc. 00-9195 Filed 4-12-00; 8:45 am]

BILLING CODE 7555-01-M